DEPARTMENT OF TRANSPORTATION

Federal Aviation Administration

Artisan Liens on Aircraft; Recordability

AGENCY: Federal Aviation Administration

ACTION: Notice.

SUMMARY: This notice of legal opinion is issued by the Aeronautical Center Counsel to provide legal advice to the Aircraft Registration Branch, Mike Monroney Aeronautical Center, Oklahoma City, Oklahoma, also identified as the FAA Aircraft Registry. Since December 17, 1981, the Aeronautical Center Counsel has issued opinions in the Federal Register of those states from which artisan liens will be accepted for recordation by the FAA Aircraft Registry. This opinion is to advise interested parties of the addition of the States of Louisiana, Massachusetts, and Rhode Island to that list.

ADDRESSES: Copies of prior opinions on the recordability of artisan liens from states which have statutes authorizing their recording may be obtained from: Aeronautical Center Counsel, AMC-7, P.O. Box 25082, Oklahoma City, OK 73125-4904.

FOR FURTHER INFORMATION CONTACT: Joseph R. Standell, Aeronautical Center Counsel, address above, or call (405) 954-3296.

SUPPLEMENTARY INFORMATION: In 46 FR 61528, December 17, 1981, the Federal Aviation Administration, Mike Monroney Aeronautical Center, published its legal opinion on the recordability of artisan liens, with the identification of those states from which artisan liens would be accepted. In 49 FR 17112, April 23, 1984, we advised that Florida, Nevada, and New Jersey had passed legislation that, in our opinion, allows the Aircraft Registry to accept artisan liens from those states. In 51 FR 21046, June 10, 1986, we advised that Minnesota and New Mexico had passed legislation that, in our opinion, allows the Aircraft Registry to accept artisan liens from those states. In 54 FR 23716, June 23, 1988, we advised that Missouri had passed legislation that, in our opinion, allows the Aircraft Registry to accept artisan liens from that state. In 54 FR 38584, September 19, 1989, we advised that Texas was identified as a state from which artisan liens will be accepted. In 54 FR 51965, October 17, 1989, we advised that North Dakota was identified as a state from which artisan liens will be accepted. In 55 FR 31938, August 6, 1990, we advised that Michigan and Tennessee was identified as states from which artisan liens will be accepted. In 56 FR 27989, June 18, 1991, we advised that Arizona was identified as a state which artisan liens will be accepted. In 56 FR 36189-36190, July 31, 1991, we advised that Iowa was identified as a state from which artisan liens will be accepted. In 58 FR 50387, September 27, 1993, we advised that the states of California (General Aviation only), Connecticut, Ohio, and Virginia were identified as states from which artisan liens will be accepted.

The purpose of this opinion is to advise interested parties that in addition to those states previously identified, the states of Louisiana, Massachusetts and Rhode Island are identified as states from which artisan liens will be accepted. Massachusetts was inadvertently omitted from the previous Notice published in 58 FR 50387, September 27, 1993, however, despite that omission FAA's Aircraft Registry has accepted and recorded artisan liens filed pursuant to Massachusetts law.

The complete list of states from which artisan liens on aircraft will be accepted as of this date are: Alaska, Arizona, Arkansas, California (General Aviation Only), Connecticut, Florida, Georgia, Illinois, Indiana, Iowa, Kansas, Kentucky, Louisiana, Maine, Massachusetts, Michigan, Minnesota, Missouri, Nebraska, Nevada, New Jersey, New Mexico, North Dakota, Ohio, Oklahoma, Oregon, Rhode Island, South Carolina, South Dakota, Tennessee, Texas, Virgin Islands, Virginia, Washington, Wyoming.

Issued in Oklahoma City on October 21, 2002.
Joseph R. Standell,
Aeronautical Center Counsel.

[FR Doc. 02-28830 Filed 11-12-02; 8:45 am]

BILLING CODE 4910-13-M